COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List products and services to be furnished by nonprofit agencies employing persons who are blind or have other severe disabilities, and deletes from the Procurement List a product previously furnished by such agencies.

EFFECTIVE DATE: October 13, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On March 29, July 19, and July 26, 2002, the Committee for Purchase From People Who Are Blind or Severely Disabled published notice (67 FR 15175, 47508, and 48870) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Marker, Lumocolor, Non-Permanent,

7520-00-NIB-1582 (Set of 8, medium point, assorted colors.)

Product/NSN: Marker, Lumocolor, Non-Permanent,

7520-00-NIB-1583 (Set of 6, medium point, assorted colors.)

Product/NSN: Marker, Lumocolor, Non-Permanent,

7520-00-NIB-1584 (Set of 4, medium point, assorted colors.)

Product/NSN: Marker, Lumocolor, Permanent,

7520-00-NIB-1585 (Set of 8, medium point, assorted colors.)

Product/NSN: Marker, Lumocolor, Permanent,

7520-00-NIB-1586 (Set of 6, medium point, assorted colors.)

Product/NSN: Marker, Lumocolor, Permanent,

7520-00-NIB-1587 (Set of 4, medium point, assorted colors.)

Product/NSN: Marker, Lumocolor, Non-Permanent,

7520-00-NIB-1636 (Set of 8, fine point, assorted colors.)

Product/NSN: Marker, Lumocolor, Non-Permanent,

7520-00-NIB-1637 (Set of 6, fine point, assorted colors.)

Product/NSN: Marker, Lumocolor, Non-Permanent,

7520-00-NIB-1638 (Set of 4, fine point, assorted colors.)

Product/NSN: Marker, Lumocolor, Permanent,

7520-00-NIB-1639 (Set of 8, fine point, assorted colors.)

Product/NSN: Marker, Lumocolor, Permanent,

7520-00-NIB-1640 (Set of 6, fine point, assorted colors.)

Product/NSN: Marker, Lumocolor, Permanent,

7520-01-392-5295 (Set of 4, fine point, assorted colors.)

NPA: Winston-Salem Industries for the Blind, Winston-Salem, North Carolina.

Contract Activity: Office Supplies & Paper Products Acquisition Center, New York, New York.

Product/NSN: 3M Twist N Fill Dispensing Systems Refills,

Floor Stripper, Low Odor/7930-00-NIB-0214,

3 in 1 Floor Cleaner/7930-00-NIB-0216,

HB Quat Disinfectant Cleaner/7930-00-NIB-0267,

Heavy Duty Aircraft Cleaner/7930-01-381-5794,

Bathroom Cleaner/7930-01-381-5820,

Glass Cleaner/7930-01-381-5826,

General Purpose Cleaner/7930-01-381-5834,

Neutral Cleaner/7930-01-381-5897,

Food Service Degreaser/7930-01-381-5936,

Heavy Duty Multi Surface Cleaner/7930-01-381-5997,

Fresh Scent Deodorizer/7930-01-412-1033,

Mountain Spice Deodorizer/7930-01-412-1034,

Sanitizer Cleaner/7930-01-412-1036,

Phenolic Disinfectant/7930-01-436-7950,

Non Acid Bathroom Cleaner/7930-01-436-8083.

NPA: Blind Industries & Services of Maryland, Baltimore, Maryland.

Contract Activity: Office Supplies & Paper Products Acquisition Center, New York, New York.

Service

Service Type/Location: Administrative Services, Federal Trade Commission, Washington, DC.

NPA: Sheltered Occupational Center of Northern Virginia, Inc., Arlington, Virginia.

Contract Activity: Federal Trade Commission.

Service Type/Location: Administrative Services, MEDCOM Health Care Acquisition Activity, Fort Sam Houston, Texas.

NPA: Goodwill Industries of San Antonio, San Antonio, Texas.

Contract Activity: MEDCOM Health Care Acquisition Activity, Fort Sam Houston, Texas.

Service Type/Location: Janitorial/Custodial, Building 2155, Fort Polk, Louisiana.

NPA: Vernon Sheltered Workshop, Leesville, Louisiana.

Contract Activity: Directorate of Contracting, Fort Polk, Louisiana.

Service Type/Location: Mattress Resizing, Defense Supply Center Philadelphia, Philadelphia, Pennsylvania.

NPA: L.C. Industries For The Blind, Inc., Durham, North Carolina.

Contract Activity: Defense Supply Center Philadelphia, Philadelphia, Pennsylvania.

Deletions

I certify that the following action will not have a significant impact on a substantial number of small entities. The major factors considered for this certification were:

1. The action may not result in any additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

After consideration of the relevant matter presented, the committee has determined that the Product listed below is no longer suitable for procurement by the Federal Government under 41 U.S.C. 46-48c and 41 CFR 51-2.4.

Accordingly, the following product is deleted from the Procurement List:

Product

Product/NSN: Enamel,

8010-01-336-3978.

NPA: Lighthouse for the Blind, St. Louis, Missouri.

Contract Activity: GSA, Hardware & Appliances Center, Kansas City, Missouri.

Sheryl D. Kennerly,
Director, Information Management.

[FR Doc. 02-23382 Filed 9-12-02; 8:45 am]

BILLING CODE 6353-01-P